Proclamation 9081 of January 31, 2014

National Teen Dating Violence Awareness and Prevention Month, 2014

By the President of the United States of America

A Proclamation

Each year, 1 in 10 American teenagers suffers physical violence at the hands of a boyfriend or girlfriend, and many others are sexually or emotionally abused. Dating violence can inflict long-lasting pain, putting survivors at increased risk of substance abuse, depression, poor academic performance, and experiencing further violence from a partner. During National Teen Dating Violence Awareness and Prevention Month, we renew our commitment to preventing abuse, supporting survivors, holding offenders accountable, and building a culture of respect.

Although girls and young women ages 16 to 24 are at the highest risk, dating violence can affect anyone. That is why everyone must learn the risk factors and warning signs. While healthy relationships are built on fairness, equality, and respect, dating violence often involves a pattern of destructive behaviors used to exert power and control over a partner. It can include constantly monitoring, isolating, or insulting a partner; extreme jealousy, insecurity, or possessiveness; or any type of physical violence or unwanted sexual contact. If you, a friend, or a loved one, is in an abusive relationship, the National Dating Abuse Helpline will offer immediate and confidential support. To contact the Helpline, call 1-866-331-9474, text “loveis” to 22522, or visit www.LoveIsRespect.org. For more information on dating violence, please visit www.CDC.gov/features/datingviolence.

My Administration remains dedicated to preventing dating violence, raising awareness among teens and their families, and educating young people about healthy relationships. Earlier this year, I established the White House Task Force to Protect Students from Sexual Assault. In addition to its primary focus of reducing sexual assault on college campuses, the task force will consider how its recommendations could apply to secondary schools. Because we must also reach out to teens in new ways, Vice President Joe Biden's 1 is 2 Many initiative is engaging them online, via mobile applications, and in social media. Alongside schools, communities, and advocacy groups, we are working to change attitudes and help teens speak out against dating violence.

Each of us can play a role in ending dating violence—in our schools, our homes, our neighborhoods, and our dormitories. This month and throughout the year, let every American look out for one another, stand with survivors, speak out against dating violence, and build communities where abuse is never tolerated.

NOW, THEREFORE, I, BARACK OBAMA, President of the United States of America, by virtue of the authority vested in me by the Constitution and the laws of the United States, do hereby proclaim February 2014 as National Teen Dating Violence Awareness and Prevention Month. I call upon all Americans to support efforts in their communities and schools, and in their own families, to empower young people to develop healthy relationships throughout their lives and to engage in activities that prevent and respond to teen dating violence.

IN WITNESS WHEREOF, I have hereunto set my hand this thirty-first day of January, in the year of our Lord two thousand fourteen, and of the Independence of the United States of America the two hundred and thirty-eighth.

[FR Doc. 2014-02543

Filed 2-4-14; 8:45 am]

Billing code 3295-F4